FEDERAL COMMUNICATIONS COMMISSION

[CG Docket No. 20-158; DA 20-1138; FRS 17176]

Termination of Dormant Proceedings

AGENCY: Federal Communications Commission.

ACTION: Notice.

SUMMARY: In this document, the Consumer and Governmental Affairs Bureau announces the availability of the FCC order terminating, as dormant, certain docketed Commission proceedings.

DATES: The dockets are terminated as of October 27, 2020.

FOR FURTHER INFORMATION CONTACT: Zac Champ of the Consumer and Governmental Affairs Bureau, at (202) 418-1495 or at zac.champ@fcc.gov.

SUPPLEMENTARY INFORMATION: The Commission's Order, Eighth Dormant Proceedings Termination Order, DA 20-1138, adopted on September 28, 2020 and released on September 28, 2020, is available in CG Docket No. 20-158. The full text of document DA 20-1138 and the spreadsheet associated with document DA 20-158 listing the proceedings terminated as dormant are available for public inspection on the Commission's website at https://www.fcc.gov/document/eighth-dormant-proceedings-termination-order. The full text of these documents and any documents filed in this matter may also be found by searching ECFS at: https://www.fcc.gov/ecfs. To request materials in accessible formats for people with disabilities (Braille, large print, electronic files, audio format), send an email to fcc504@fcc.gov or call the Consumer and Governmental Affairs Bureau at (202) 418-0530 (voice) or (202) 418-0432 (TTY).

Federal Communications Commission.
Suzanne Singleton,
Chief, Disability Rights Office, Consumer and Governmental Affairs Bureau.

[FR Doc. 2020-23680 Filed 10-26-20; 8:45 am]

BILLING CODE 6712-01-P